Title 3—

The President

Proclamation 7338 of September 14, 2000

National Hispanic Heritage Month, 2000

By the President of the United States of America

A Proclamation

American society today embraces a remarkable breadth of cultures, and Hispanics are an integral part of this diversity. The Hispanic American community is a collage of distinct groups, including people with roots in Central and South America, Mexico, the Caribbean, and Spain. Hispanics have been an important part of the history and heritage of the Americas since the earliest days of European colonization, and today Hispanic Americans are the youngest and fastest-growing minority community in our Nation. Devoted to family, faith, country, and hard work, they bring unique perspectives and experiences to our national community and character.

The vibrant Hispanic influence can be seen in all aspects of American life and culture, from distinctive cuisine to colorful festivals, and from the rhythms and melodies of traditional music to the contagious beat of today's most popular songs. Throughout our Nation, Hispanic men and women have distinguished themselves in every endeavor and, with our cultural and linguistic ties to our trading partners throughout the Western Hemisphere, Hispanic Americans are crucial to maintaining our Nation's competitiveness and prosperity in the global economy of the 21st century.

Not long ago I had the privilege of awarding the Presidential Medal of Freedom, our Nation's highest civilian honor, to Cruz Reynoso, a man who has devoted his life to promoting civil rights and championing equal opportunity for all our people. A son of Mexican immigrants, he has lived the American Dream, going to college and working his way up to become the first Hispanic American to serve on the California Supreme Court. A force for positive social change in our Nation, he is just one of many talented Hispanic Americans enriching our national life.

Cruz Reynoso's success underscores what we already know: education and equal opportunity are the keys to ensuring that people of Hispanic heritage can take full advantage of America's promise. My Administration has focused on improving educational opportunities for Hispanic children through the Hispanic Education Action Plan, as well as by reducing class sizes across our Nation, greatly expanding the Head Start program, working to turn around failing schools, and making college more affordable through tax incentives and scholarships. By expanding the Earned Income Tax Credit, raising the minimum wage, and moving people from welfare to work, my Administration has also helped expand economic opportunity for Hispanic American working families. We have brought the Hispanic unemployment rate to its lowest level on record and the Hispanic poverty rate to a 20-year low. We have also worked hard to create an Administration that truly reflects America, with the most Hispanic appointees and the most Hispanic judicial nominees in our Nation's history.

Even as Hispanic Americans grow in number and influence in our country, they have not forgotten their roots; they have not forgotten the pain of discrimination, of being ignored or left behind. Instead, millions of courageous and compassionate Hispanic men and women across our country are working to create a just and equal society, uniting around a firm commitment to build One America in this new century.

In honor of the many contributions that Hispanic Americans have made and continue to make to our Nation and culture, the Congress, by Public Law 100-402, has authorized and requested the President to issue annually a proclamation designating September 15 through October 15 as “National Hispanic Heritage Month.”

NOW, THEREFORE, I, WILLIAM J. CLINTON, President of the United States of America, do hereby proclaim September 15 through October 15, 2000, as National Hispanic Heritage Month. I call upon all Americans to observe this month with appropriate programs, ceremonies, and activities.

IN WITNESS WHEREOF, I have hereunto set my hand this fourteenth day of September, in the year of our Lord two thousand, and of the Independence of the United States of America the two hundred and twenty-fifth.

wj

[FR Doc. 00-24175

Filed 9-18-00; 8:45 am]

Billing code 3195-01-P